DEPARTMENT OF AGRICULTURE

Food and Nutrition Service

Agency Information Collection Activities: Proposed Collection Comment Request—Supplemental Nutritional Assistance Program Education (SNAP Ed) Connection Resource Sharing Form

AGENCY: Food and Nutrition Service (FNS), USDA.

ACTION: Notice and request for comments.

SUMMARY: In accordance with the Paperwork Reduction Act of 1995 this notice announces the Food and Nutrition Service's intent to request approval to collect information via an online form. This is a revision of a currently approved information collection request which was transferred from Agricultural Research Service. This voluntary form will be used by SNAP Education (SNAP-Ed) instructors and nutrition education material developers to submit materials for review and possible inclusion in the SNAP-Ed Library (formerly known as the SNAP-Ed Connection Resource Finder). The following materials may be submitted: Obesity prevention education materials targeting Supplemental Nutrition Assistance Program eligible persons; materials related to the development, implementation, administration and evaluation of SNAP Education programs; reports or other materials that demonstrate the effectiveness of SNAP-Ed funded programs; other materials developed by SNAP-Ed funded programs. The SNAP-Ed Library may be used by SNAP-Ed instructors and others to easily search for resources and to learn about the work of other SNAP-Ed programs.

DATES: Comments on this notice must be received by 60 days after date of publication in the Federal Register to be assured of consideration.

ADDRESSES: Comments may be sent to: Usha Kalro, Food and Nutrition Service, Supplemental Nutrition Assistance Program, Program Administration and Accountability Division, SNAP-Ed Connection, 3101 Park Center Drive, Room 822, Alexandria, VA 22302, telephone (703) 305-2397 or via Fax- 703 305 0928. Submit electronic comments to snap-edconnection@fns.usda.gov; comments will also be accepted through the Federal eRulemaking Portal. Go to http://www.regulations.gov and follow the online instructions for submitting comments electronically.

All written comments will be open for public inspection at the office of the Food and Nutrition Service during regular business hours (8:30 a.m. to 5 p.m. Monday through Friday) at 3101 Park Center Drive, Alexandria, Virginia 22302.

All responses to this notice will be summarized and included in the request for Office of Management and Budget approval. All comments will be a matter of public record.

FOR FURTHER INFORMATION CONTACT: Requests for additional information or copies of this information collected should be directed to Usha Kalro at usha kalro@fns.usda.gov.

SUPPLEMENTARY INFORMATION: Title: SNAP-Ed Connection Resource Sharing Form.

Form Number:

OMB Number: 0584-0625.

Expiration Date: 10/30/2017.

Type of Request: Revision of existing data collection.

Abstract: We are requesting an update to the name of this form. The previous data collection was titled the Food Stamp Nutrition Connection Sharing Form. The name change from Food Stamp to SNAP was based on the Farm Bill, The Food, Conservation, and Energy Act of 2008 (Pub. L. 110-234, H.R. 2419, 122 Stat. 923, Section 4001 enacted May 22, 2008, also known as the 2008 U.S. Farm Bill).

The Web site is developed and maintained at the USDA Food and Nutrition Service. The SNAP-Ed Connection is a resource Web site for SNAP-Ed administrators and educators. SNAP-Ed educators (e.g., State Agencies, Business or Federal Government, such as the Center for Disease Control) use the SNAP-Ed Connection Web site to locate curricula, participant materials, nutrition research, administrative documents, and information regarding SNAP-Ed program development, implementation and evaluation. This resource Web site helps SNAP-Ed instructors find the tools and information they need to implement high-quality evidence-based obesity prevention programs. Instructors may complete the form online. Respondents will provide contact information, ordering information, and information about the resource they are submitting.

The SNAP-Ed Library is an online database of SNAP-Ed related materials. The SNAP-Ed Connection Resource Sharing Form gives SNAP-Ed instructors, as well as those who develop nutrition education materials, the opportunity to voluntarily share information about resources that can be used to administer, develop, implement, evaluate or showcase SNAP-Ed programs. Information collected via this form enables the SNAP-Ed Connection staff to review materials for possible inclusion in the SNAP-Ed Library. SNAP-Ed instructors and other interested parties then search this database via the SNAP-Ed Connection Web site https://snaped.fns.usda.gov to locate materials of interest. By using this database, SNAP-Ed funded programs can share resources with each other, reduce duplication of efforts, and improve program quality. SNAP-Ed funded programs can also learn about useful nutrition education materials created by other organizations.

Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

Affected Public: 12 State Agencies, 12 Business, and 1 Federal Government (Respondents are SNAP-Ed instructors and others educators who develop nutrition education materials)

Estimated Number of Respondents: 25.

Estimated Number of Responses per Respondent: 4.44.

Estimated Total Annual Response: 111.

Estimated Time per Response: 0.167 (10 minutes).

Estimated Total Annual Burden on Respondents: 18.54 (rounded up to 19 burden hours).

Affected public | Type of respondent | Number of respondents | Frequency per respondents | Total annual response | Average time per response (hours) | Total annual burden hours
State, Local or Tribal Agencies | SNAP Ed (nutrient education instructors) | 14 | 5 | 70 | 0.167 | 11.69
Business-for-not-for-profit | SNAP Ed (nutrient education instructors) | 10 | 4 | 40 | 0.167 | 6.68
Federal Government (such as CDC) | SNAP Ed (nutrient education instructors) | 1 | 1 | 1 | 0.167 | 0.167
Total Respondents Cost |  | 25 | 4.44 | 111 | 0.167 | 18.54

Dated: August 10, 2017.
Brandon Lipps,
Administrator, Food and Nutrition Service.

[FR Doc. 2017-17517 Filed 8-17-17; 8:45 am]

BILLING CODE 3410-30-P